DEPARTMENT OF ENERGY

Federal Energy Regulatory Commission

Combined Notice of Filings

Take notice that the Commission has received the following Natural Gas Pipeline Rate and Refund Report filings:

Docket Numbers: RP21-211-000.

Applicants: Northern Border Pipeline Company.

Description: Compliance filing NBPL Compliance Filing to be effective 12/13/2020.

Filed Date: 11/13/20.

Accession Number: 20201113-5032.

Comments Due: 5 p.m. ET 11/25/20.

Docket Numbers: RP21-212-000.

Applicants: Natural Gas Pipeline Company of America.

Description: § 4(d) Rate Filing: Filing—Amendment to a Negotiated Rate Agreement-Macquarie Energy to be effective 11/14/2020.

Filed Date: 11/13/20.

Accession Number: 20201113-5040.

Comments Due: 5 p.m. ET 11/25/20.

Docket Numbers: RP21-213-000.

Applicants: Gulf South Pipeline Company, LLC.

Description: § 4(d) Rate Filing: Superseding Amendment to Neg Rate Agmt (BP 46441) to be effective 11/13/2020.

Filed Date: 11/13/20.

Accession Number: 20201113-5052.

Comments Due: 5 p.m. ET 11/25/20.

Docket Numbers: RP21-214-000.

Applicants: Texas Gas Transmission, LLC.

Description: § 4(d) Rate Filing: Third GMS Filing—Intermediate to be effective 12/14/2020.

Filed Date: 11/13/20.

Accession Number: 20201113-5053.

Comments Due: 5 p.m. ET 11/25/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 16, 2020.
Nathaniel J. Davis, Sr.,
Deputy Secretary.

[FR Doc. 2020-25674 Filed 11-19-20; 8:45 am]

BILLING CODE 6717-01-P